DEPARTMENT OF HEALTH AND HUMAN SERVICES

Health Resources and Services Administration

Health Careers Opportunity Program

AGENCY: Health Resources and Services Administration (HRSA), HHS.

ACTION: Notice of class deviation from competition requirements for the Health Careers Opportunity Program (HCOP).

SUMMARY: The Health Resources and Services Administration (HRSA) will be issuing non-competitive awards for the HCOP program. Approximately $9.8 million will be made available in the form of grants to the awardees listed in the chart below for the budget period beginning September 1, 2014. We have determined the need for significant program changes prior to launching a new competition to the field. This will enable the Bureau of Health Workforce to thoughtfully redesign the current program to ensure that it meets the needs of both the government and the field, and conduct a single competition in fiscal year (FY) 2015.

SUPPLEMENTARY INFORMATION: Grantees of record and intended award amounts are:

Grant No. | Institution name | State | Anticipated FY 2014 funding amount
D18HP23034 | University of Alabama Birmingham | AL | $624,823
D18HP23007 | University of Arizona | AZ | 739,146
D18HP10623 | University of California, San Diego | CA | 742,224
D18HP23028 | D'Youville College | NY | 679,854
D18HP10617 | Marquette University | WI | 719,155
D18HP05283 | Meharry Medical College | TN | 750,000
D18HP23030 | Michigan State University | MI | 667,125
D18HP10625 | University of Michigan-Flint | MI | 592,581
D18HP10627 | Mount Sinai School of Medicine | NY | 686,377
D18HP23032 | University of Texas Medical Branch | TX | 750,000
D18HP23014 | Research Foundation of the State University of New York | NY | 712,447
D18HP23023 | Howard University | DC | 735,372
D18HP23019 | St. Vincent Health | IN | 662,002
D18HP23031 | Northeastern Vermont AHEC | VT | 709,350

Amount of the Award(s): Up to $750,000 (see chart above).

CFDA Number: 93.822.

Current Project Period: September 1, 2011, through August 31, 2014.

Period of Supplemental Funding: September 1, 2014, through August 31, 2015.

Authority: Title VII, Section 739 of the Public Health Service (PHS) Act, as amended by Section 5402 of the Affordable Care Act.

Justification: A diverse health professions workforce is critical to achieving greater health equity and ensuring access to quality health care services for underrepresented and underserved populations. The increasing diversity of the U.S. population requires a health care workforce that reflects the population, is knowledgeable, and culturally competent to care for a growing range of health care needs and can serve populations in hard to reach places. HRSA's HCOP grant program serves as a pipeline program by encouraging, cultivating, and supporting students from economically and academically disadvantaged backgrounds to enter healthcare fields.

By extending the performance period of the 14 HCOP grantees listed above, we will create a single cohort of HCOP grantees. These awards will align with the HCOP performance and budget periods for the remaining three HCOP grantees, which runs through August 2015, resulting in administrative savings over a competitive grant making process. Aligning the project periods will also greatly facilitate HRSA efforts to manage this program as a network of grantees working towards common programmatic goals.

Following the current year of funding, HRSA plans to conduct a single funding competition in FY 2015. We will be able to systematically assess the needs of the field, involve grantees in defining the direction of the program, and develop an innovative redesign of the program including strategies that are more aligned with HRSA's diversity priorities and the direction of the field.

FOR FURTHER INFORMATION CONTACT: Tia-Nicole Leak, Ph.D., Division of Public Health and Interdisciplinary Education, Bureau of Health Workforce, Health Resources and Services Administration, 5600 Fishers Lane, Room 9C-26, Rockville, Maryland 20857, or email tleak@hrsa.gov.

Dated: June 19, 2014.
Mary K. Wakefield,
Administrator.

[FR Doc. 2014-14808 Filed 6-24-14; 8:45 am]

BILLING CODE 4165-15-P